FEDERAL MARITIME COMMISSION

Ocean Transportation Intermediary License Applicants

The Commission gives notice that the following applicants have filed an application for an Ocean Transportation Intermediary (OTI) license as a Non-Vessel-Operating Common Carrier (NVO) and/or Ocean Freight Forwarder (OFF) pursuant to section 40901 of the Shipping Act of 1984 (46 U.S.C. 40101). Notice is also given of the filing of applications to amend an existing OTI license or the Qualifying Individual (QI) for a licensee.

Interested persons may contact the Office of Ocean Transportation Intermediaries, Federal Maritime Commission, Washington, DC 20573, by telephone at (202) 523-5843 or by email at OTI@fmc.gov.

Always Affordable Shipping LLC (NVO), 16 Angela Circle, Hazlet, NJ 07730, Officers: Christopher L. Loux, President (QI), Steven Van Elk, Treasurer, Application Type: Transfer to NMT USA (New Jersey) Inc.

Apex Maritime Co. (HOU) Inc. (NVO), 9610 Long Point, Suite 320, Houston, TX 77055, Officers: Vicky Cheung, President (QI), James Chu, Vice President, Application Type: New NVO License.

Awilda Shipping Inc. (NVO), 41-02 108 Street, Corona, NY 11368, Officers: Inocencia Del Villar, President (QI), Jorge Perez, Vice President, Application Type: New NVO License.

Ayodeji Oluseun Bamijoko dba Star Express Shipping (OFF), 2600 Westhollow Drive, #312, Houston, TX 77082, Officer: Ayodeji O. Bamijoko, Sole Proprietor (QI), Application Type: New OFF License.

Chicago Express International, Inc. (OFF), 301 Frontier Way, Bensenville, IL 60106, Officer: Lutz Austermeier, President (QI), Application Type: New OFF License.

Easy Express Inc. (NVO & OFF), 11222 S. La Cienega Blvd., #410, Inglewood, CA 90304, Officers: Erwin Ross Dalao, CFO (QI), Yang Su, CEO, Application Type: New NVO & OFF License.

Econshippers, LLC (NVO), 3421 Hampton Hollow Drive, #F, Silver Spring, MD 20904, Officer: Mario Theranus, President (QI), Application Type: New NVO License.

Equipsa Inc. (OFF), 2105 NW. 102 Avenue, Miami, FL 33172, Officers: Isabel C. Montejo, GM (QI), Arthur Gelfand, President, Application Type: Add NVO Service.

Estevez and Sons, LLC dba Embarqueya Quisqueya (OFF), 9160 Estate Thomas, Fortress Self-Storage Unit H-815, St. Thomas, VI 00802, Officers: Emilo J. Estevez, Member (QI), Luz V. Estevez, Member, Application Type: New OFF License.

Focus Forwarding, Inc (OFF), 5237 Banbury Circle, La Palma, CA 90623, Officer: Chiyoon Apollo Sung, Director (QI), Application Type: New OFF License.

Innocent P. Ajaroh dba Innglo Global (NVO & OFF), 2427 Texana Way, Richmond, TX 77406, Officer: Innocent P. Ajaroh, Sole Proprietor (QI), Application Type: Add NVO Service.

Inter Shipping Line, Inc. (OFF), 18039 Crenshaw Blvd., #311, Torrance, CA 90504, Officers: Brendan Sheen, CFO (QI), Seungjoon Kim, CEO, Application Type: New OFF License.

Korchina Logistics USA, Inc. (NVO & OFF), 18120 S. Broadway Street, Unit A, Gardena, CA 90248, Officers: Jong (A.K.A. Jake) K. Park, CFO (QI), Eric Sun, President, Application Type: QI Change.

La Isabela Embarque Corporation (NVO & OFF), 376 Totowa Avenue, Paterson, NJ 07502, Officers: Robert Guerra, President (QI), Henry Guerra, Vice President, Application Type: New NVO & OFF License.

Ocean Line Logistics Inc. (NVO & OFF), 630 W. Duarte Road, #205, Arcadia, CA 91007, Officer: Peixin Li, President (QI), Application Type: QI Change.

Panda Logistics (NY), Inc. (NVO), 10 East Merrick Road, Suite 204, Valley Stream, NY 11580, Officers: Cooper Chao, President (QI), Marjorie Ovid, CFO, Application Type: QI Change.

Pegasus Worldwide Logistics NY, Inc. (NVO), 10 East Merrick Road, Suite 204, Valley Stream, NY 11580, Officers: Raymond Choy, Vice President (QI), Cooper Chao, President, Application Type: QI Change.

Seven Seas Cargo, LLC (NVO & OFF), 200 Emile Street, Suite #A, Houston, TX 77020, Officer: Moataz Kesba, Member (QI), Application Type: New NVO & OFF License.

Suncoast Ocean Lines, LLC (NVO), 3426 Hancock Bridge Parkway, Suite 305, North Fort Myers, FL 33903, Officer: Anton Samoila, Managing Member (QI), Application Type: New NVO License.

By the Commission.
Dated: October 5, 2012.
Karen V. Gregory,
Secretary.

[FR Doc. 2012-25049 Filed 10-10-12; 8:45 am]

BILLING CODE 6730-01-P